STATE JUSTICE INSTITUTE

SJI Board of Directors Meeting, Notice

AGENCY: State Justice Institute.

ACTION: Notice of meeting.

SUMMARY: The SJI Board of Directors will be meeting on Monday, September 11, 2017 at 1:45 p.m. The meeting will be held at the Umstead Hotel in Cary, North Carolina. The purpose of this meeting is to consider grant applications for the 4th quarter of FY 2017, and other business. All portions of this meeting are open to the public.

ADDRESSES: Umstead Hotel, 100 Woodland Pond Drive, Cary, NC 27513.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2017-18595 Filed 8-31-17; 8:45 am]

BILLING CODE 6820-SC-P